FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than April 21, 2022.

A. Federal Reserve Bank of Minneapolis (Chris P. Wangen, Assistant Vice President), 90 Hennepin Avenue, Minneapolis, Minnesota 55480-0291. Comments can also be sent electronically to MA@mpls.frb.org:

1. Bosshard Bank Irrevocable Trust, u/a/d October 21, 2021, South Dakota Trust Company LLC, as trustee, both of Sioux Falls, South Dakota; Andrew R. Bosshard, individually and as trust protector of the aforementioned trust, La Crosse, Wisconsin; Nathan Bosshard-Blackey, Mill Valley, California; and Elizabeth Bosshard-Blackey, Edina, Minnesota, both individually and as investment committee members of the aforementioned trust; and Elizabeth Bosshard-Blackey 2022 Irrevocable Bank Trust, u/a/d January 7, 2022, Andrew R. Bosshard, as trustee, both of La Crosse, Wisconsin; and Piercarlo Valdesolo, with power to remove or appoint trustee, Edina, Minnesota; all to join a group acting in concert to acquire voting shares of Bosshard Banco, Ltd., La Crosse, Wisconsin, and indirectly acquire voting shares of Intercity State Bank, Schofield, Wisconsin, and The First National Bank of Bangor, Bangor, Wisconsin.

2. Bosshard Bank Irrevocable Trust, u/a/d October 21, 2021, South Dakota Trust Company LLC, as trustee, both of Sioux Falls, South Dakota; Andrew R. Bosshard, individually and as trust protector, La Crosse, Wisconsin; Nathan Bosshard-Blackey, individually and as investment committee member, Mill Valley, California; and Elizabeth Bosshard-Blackey, individually and as investment committee member, Edina, Minnesota; to join a group acting in concert to acquire voting shares of Clayton Bankshares, Inc., and indirectly acquire voting shares of Citizens State Bank-La Crosse, both of La Crosse, Wisconsin.

3. Sarah M. Getzlaff, Bismarck, North Dakota; to acquire voting shares of Oliver Bancorporation, Inc., Center, North Dakota, and thereby indirectly acquire voting shares of Security First Bank of North Dakota, New Salem, North Dakota.

Board of Governors of the Federal Reserve System, March 31, 2022.
Michele Taylor Fennell,
Deputy Associate Secretary of the Board.

[FR Doc. 2022-07179 Filed 4-5-22; 8:45 am]

BILLING CODE P